DEPARTMENT OF JUSTICE

Office of Justice Programs

[OJP (OJJDP) Docket No. 1707]

Meeting of the Coordinating Council on Juvenile Justice and Delinquency Prevention

AGENCY: Coordinating Council on Juvenile Justice and Delinquency Prevention, Justice.

ACTION: Notice of meeting.

SUMMARY: The Coordinating Council on Juvenile Justice and Delinquency Prevention (“Council”) announces its next meeting.

DATES: Friday, June 17, 2016 from 10:00 a.m. to 12:00 p.m. (Eastern Time).

ADDRESSES: The meeting will take place in the third floor main conference room at the U.S. Department of Justice, Office of Justice Programs, 810 7th St. NW., Washington, DC 20531.

FOR FURTHER INFORMATION CONTACT: Visit the Web site for the Coordinating Council at www.juvenilecouncil.gov or contact Jeff Slowikowski, Designated Federal Official (DFO), OJJDP, by telephone at (202) 616-3646 (not a toll-free number) or via email: jeff.slowikowski@usdoj.gov. The meeting is open to the public.

SUPPLEMENTARY INFORMATION: The Council, established by statute in the Juvenile Justice and Delinquency Prevention Act of 1974 (42 U.S.C. 5616(a)), will meet to carry out its advisory functions. Documents such as meeting announcements, agendas, minutes, and reports will be available on the Council's Web page, www.juvenilecouncil.gov where you may also obtain information on the meeting.

Although designated agency representatives may attend, the Council membership consists of the Attorney General (Chair), the Administrator of the Office of Juvenile Justice and Delinquency Prevention (Vice Chair), the Secretary of Health and Human Services (HHS), the Secretary of Labor (DOL), the Secretary of Education (DOE), the Secretary of Housing and Urban Development (HUD), the Director of the Office of National Drug Control Policy, the Chief Executive Officer of the Corporation for National and Community Service, and the Assistant Secretary of Homeland Security for U.S. Immigration and Customs Enforcement. The nine additional members are appointed by the Speaker of the U.S. House of Representatives, the U.S. Senate Majority Leader, and the President of the United States. Other federal agencies take part in Council activities, including the Departments of Agriculture, Defense, Interior, and the Substance and Mental Health Services Administration of HHS.

Meeting Agenda: The agenda will include: (a) Opening remarks and introductions; (b) Discussion of the Overview of National, State and Local Efforts to Reduce and Prevent Youth Violence; and (c) Council member announcements.

Registration: For security purposes, members of the public who wish to attend the meeting must pre-register online at www.juvenilecouncil.gov no later than Tuesday, June 14, 2016. Should problems arise with web registration, contact Melissa Kanaya, Senior Program Manager/Federal Contractor, at (202) 280-8874 or (202) 514-9373 or send a request to register to Ms. Kanaya. Please include name, title, organization or other affiliation, full address and phone, fax and email information and send to her attention either by fax to (866) 854-6619, or by email to mkanaya@aeioonline.com. Note that these are not toll-free telephone numbers. Additional identification documents may be required. Meeting space is limited.

Note: Photo identification will be required for admission to the meeting.

Written Comments: Interested parties may submit written comments and questions in advance by Tuesday, June 14, 2016, to Mr. Slowikowski, at jeff.slowikowski@usdoj.gov. Alternatively, fax your comments to (866) 854-6619 and contact Ms. Kanaya at (202) 280-8874 or (202) 514-9373 to ensure that they are received.

The Council expects that the public statements submitted will not repeat previously submitted statements. Written questions from the public are also invited at the meeting.

Robert L. Listenbee,
Administrator, Office of Juvenile Justice and Delinquency Prevention.

[FR Doc. 2016-09755 Filed 4-26-16; 8:45 am]

BILLING CODE 4410-18-P